DEPARTMENT OF AGRICULTURE

Forest Service

Manti-La Sal National Forest, Fortuna Company Gas Exploration Wells, Emery and Sanpete Counties, UT, Notice of Intent To Prepare an Environmental Impact Statement

AGENCY: Forest Service, USDA.

ACTION: Notice of Intent to Prepare an Environmental Impact Statement.

SUMMARY: The Forest Service (FS) will prepare an Environmental Impact Statement (EIS) to document the analysis and disclose the environmental and human effects of authorizing a gas exploration well and associated road access on the Manti-La Sal National Forest. The proposed wells, designated the Joe's Valley Federal 20-1, and Lowery Water Federal 32-12, were proposed by Fortuna US (proponent). The BLM (Bureau of Land Management) will participate as a cooperating agency.

Agency Decisions

The BLM is responsible for administration of oil and gas leases under the Mineral Leasing Act of 1920, as amended, and Federal Regulations in 43 CFR part 3100. The BLM Moab Field Office Manager must decide whether or not to approve the Application for Permit to Drill (APD). The Forest Supervisor, Manti-La Sal National Forest must decide whether or not to approve the Surface-Use Plan of Operations and what conditions to require for the protection of non-mineral resources. Forest Service authority is provided under the Mineral Leasing Act of 1920, as amended, Federal Onshore Oil and Gas Leasing Reform Act of 1987, and Federal Regulations in 36 CFR part 228, Subpart E.

DATES: Written comments concerning issues and alternatives to be considered and the scope of the analysis described in this notice should be received within 30 days from the date of publication of this notice in the Federal Register.

ADDRESSES: Send written comments to Forest Supervisor, Ferron/Price Ranger District, Manti-La Sal National Forest, 115 West Canyon Road, PO Box 310, Ferron, Utah 84523, ATTN: Tom Lloyd.

FOR FURTHER INFORMATION CONTACT: Questions concerning the proposed action and EIS should be addressed to Tom Lloyd or Carter Reed, Manti-La Sal National Forest, phone (435) 384-2372 or (435) 637-2817.

SUPPLEMENTARY INFORMATION: Fortuna US has proposed to conduct gas exploration activities in 2003/2004 and reclamation activities in 2004/2005 on Federal Oil and Gas Lease(s) UTU-78146 and UTU-14623. Exploration activities would consist of reconstruction of about 3 miles of Forest Service Roads (FSR) 50038 and 50059, construction of temporary project access roads (about 0.31 miles), construction of drill pads (4.5 acres total estimated disturbance) and drilling two (2) wells. Analysis of possible production lines to nearby gas pipelines would also be considered.

The proposed Joe's Valley Federal 20-1 is located in NW¼ Sec 21 T.15S, R6E. SLBM, Sanpete County, Utah. The Lowery Water Federal 32-12 is located in SW¼ Sec 32 T. 16 S, R. 6 E., SLBM, Emery County, Utah. The general area of the proposed site would be the Scad Valley, Middle Mountain, Lowery Water area, about 5 miles north of Joe's Valley Reservoir and about 2.6 miles south of Miller Flat Reservoir and approximately 16 miles north-northwest of the town of Huntington, Utah. Portions of the proposed road improvements traverse the eastern boundary of the Boulger-Black Canyon Inventoried Roadless Area.

Purpose and Need

The proponent's purpose for this exploration project is to assess the economic recoverability of its lease holdings. The proposed drilling program would provide geologic data necessary to assess oil and gas potential within Federal Oil and Gas Lease(s) UTU-78416 and UTU-14623. If economic quantities of oil and gas were located, further development would likely be proposed for recovery. Oil and gas are needed to meet future energy demands of the state and nation.

The Forest Service's purpose and need is to evaluate the environmental effects of the Surface Use Plan contained within the APD in accordance with the Manti-La Sal Land and Resource Management (Plan Forest) Plan management direction (page III-12). The decision must be consistent with the rights granted by the oil and gas leases, applicable laws, and Forest Plan direction.

Proposed Action

The proponent's proposed action is to drill the wells and if possible, produce and market natural gas at a profit consistent with the right granted by Federal Oil and Gas Leases UTU-78416 and UTU-14623.

The proposed action is for the Manti-La Sal Nation Forest to authorize Fortuna US to construct/reconstruct the roads and occupancy National Forest System land in order to drill two exploration holes within Federal Leases UTU-78416 and UTU-14623, consistent with their lease rights, applicable laws and regulation, and Forest Plan direction for management of the National Forest System lands. Authorization would be granted by approval of the Surface Use Plan of Operation. A Forest Service Road-Use Permit would also be needed to authorize commercial use of the Forest Service Roads. Additional mitigation and monitoring may be deemed necessary by the Forest Service to minimize environmental effects.

Public Participation

The Forest Service is seeking information and comments from Federal, State, and local agencies as well as individuals and organizations that may be interested in, or affected by, the proposed action. The agency invites written comments regarding potential issues and alternatives related to the proposed action and the area being analyzed. Information received will be used to prepare the Draft and Final EIS and considered in making agency decisions.

The EIS and Record of Decision (ROD) will tier to the Final EIS and ROD for the Manti-La Sal Nation Forest Land and Resource Management Plan (Forest Plan), 1986, as amended, by the 1994 Record of Decision for Oil and Gas Leasing on Lands Administered by the Manti-La Sal Nation Forest.

Draft preliminary issues include effects to wildlife, visual quality, roadless character, and dispersed recreation use of Upper Joe's Valley, Middle Mountain, Lower Water areas.

Agency representatives and other interested people are invited to visit with Forest Service and BLM officials at any time during the EIS process. Two specific time periods are identified for the receipt of formal comments on the analysis. The two comment periods are, (1) during the scoping process, the next 30 days following publication of this Notice in the Federal Register, and (2) during the formal review period of the Draft EIS.

The Draft EIS is estimated to be filed with the Environmental Protection Agency (EPA) and available for public review in June 2003. At that time the EPA will publish an availability in the Federal Register. The comment period on the Draft EIS will be 45 days from the date that EPA's notice of availability appears in the Federal Register. The Final EIS is expected to be released in August 2003.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Authority: (Mineral Leasing Act of February 25, 1920 (Pub. L. 66-146, 41 Stat. 437, as amended; 30 U.S.C. 181-287)).

Dated: March 11, 2003.
Aaron L. Howe,
Acting Forest Supervisor, Manti-La Sal Nation Forest.

[FR Doc. 03-6267 Filed 3-14-03; 8:45 am]

BILLING CODE 3410-11-M